COMMITTEE FOR PURCHASE FROM PEOPLE WHO ARE BLIND OR SEVERELY DISABLED

Procurement List; Additions

AGENCY: Committee for Purchase From People Who Are Blind or Severely Disabled.

ACTION: Additions to Procurement List.

SUMMARY: This action adds to the Procurement List products and services to be furnished by nonprofit agencies employing persons who are blind or have other severe disabilities.

EFFECTIVE DATE: January 26, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On October 9, 2001, September 13, October 4, and October 25, 2002, the Committee for Purchase From People Who Are Blind or Severely Disabled published notice (66 FR 51372, 67 FR 58013, 62224, and 65531) of proposed additions to the Procurement List.

The following comments pertain to Gloves, Surgeon's Sterile Disposable.

Comments were received from three suppliers of surgical gloves to the Government, in response to a notice the Committee placed in the online information service FedBizOpps. One supplier claimed that the large majority of its sales were of surgical gloves for the Department of Veterans Affairs (VA). However, a review of these sales disclosed that a very small percentage of the supplier's sales were surgical gloves for the VA. Consequently, the addition should not constitute a severe adverse impact on this supplier.

The second supplier stated that it is a small business which has been unable to sell to hospitals and the Government previously, but hoped to do so through a recent contract under the Federal Supply Schedules. The supplier believes that this Procurement List addition will cut it off from the Schedules, thus reducing its sales to the point that it will no longer be able to offer surgical gloves because it will lose the needed economy of scale. This supplier objected to the anticipated VA decision to standardize on the surgical gloves being added to the Procurement List, noting possible physician objections to standardization as well as the curtailment of the market represented by standardization on one glove. The supplier noted that the nonprofit agency designated by the Committee to provide the surgical glove already provides to the VA the examination glove on which VA standardized, and that the earlier standardization decision cost it some VA sales. Finally, the supplier claimed that prices for the surgical glove will increase inappropriately, as allegedly happened for the examination glove.

This supplier failed to provide sales data, so the Committee cannot quantitatively assess the supplier's impact claims. The surgical glove requirement being added to the Procurement List is limited to the VA requirement, so the supplier should be able to sell surgical and examination gloves to other Government agencies through the Schedules. The Committee is not responsible for VA standardization decisions, so it cannot consider effects of those decisions in judging whether its Procurement List additions unfairly impact suppliers. The prices for both surgical and examination gloves were agreed to through negotiation between VA and the designated nonprofit agency, and thus represent fair market prices under the Committee's pricing policies.

The third supplier provided information which allowed the Committee to estimate the percentage of its sales that will be lost because of the addition of this surgical glove to the Procurement List. However, this percentage is below the level which the Committee normally considers to constitute severe adverse impact on a supplier. The supplier also claimed that the addition would negatively impact numerous small businesses providing gloves to the Government, would prevent domestically manufactured gloves from being sold to the Government, would unfairly restrict competition and pricing for a large-value health care item, and would threaten the operational readiness of the military and of Federal civilian agencies in support of homeland security by limiting surgical glove purchases to one non-commercial source.

This supplier's claims are based on the assumption that the Committee is adding all Government surgical glove purchases to the Procurement List, rather than the VA requirement for one type of surgical glove. The Committee is confident that the designated nonprofit agency, which is an experienced provider of examination gloves, will do equally well at fulfilling the limited requirement which is being added to the Procurement List. This Procurement List addition should have no significant effect on the ability of other surgical glove suppliers, including small businesses, to fill the needs of Government agencies outside VA, including the Department of Defense and Homeland Security, or on the price of those gloves. Concerning impact on the domestic manufacture of surgical gloves, it is the Committee's understanding that these gloves are not manufactured by anyone in the United States.

The following material pertains to all of the items being added to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

Accordingly, the following products and services are added to the Procurement List:

Products

Product/NSN: 4 Ply Cut End Mopheads

7920-00-NIB-0430, #12

7920-00-NIB-0431, #16

7920-00-NIB-0432, #24

7920-00-NIB-0434, #20

7920-00-NIB-0435, #32

NPA: New York City Industries for the Blind, Brooklyn, New York.

Contract Activity: Office Supplies & Paper Products Acquisition Center, New York, New York.

Product/NSN: Gloves, Surgeon's, Sterile Disposable

Glove, Surgeon, Encore, Size 5.5/6515-00-NIB-0121

Glove, Surgeon, Encore, Size 6.0/6515-00-NIB-0122

Glove, Surgeon, Encore, Size 6.5/6515-00-NIB-0123

Glove, Surgeon, Encore, Size 7.0/6515-00-NIB-0124

Glove, Surgeon, Encore, Size 7.5/6515-00-NIB-0125

Glove, Surgeon, Encore, Size 8.0/6515-00-NIB-0126

Glove, Surgeon, Encore, Size 8.5/6515-00-NIB-0127

Glove, Surgeon, Encore, Size 9.0/6515-00-NIB-0128

Glove, Surgeon, Derma Prene, Size 5.5/6515-00-NIB-0129

Glove, Surgeon, Derma Prene, Size 6.0/6515-00-NIB-0130

Glove, Surgeon, Derma Prene, Size 6.5/6515-00-NIB-0131

Glove, Surgeon, Derma Prene, Size 7.0/6515-00-NIB-0132

Glove, Surgeon, Derma Prene, Size 7.5/6515-00-NIB-0133

Glove, Surgeon, Derma Prene, Size 8.0/6515-00-NIB-0134

Glove, Surgeon, Derma Prene, Size 8.5/6515-00-NIB-0135

Glove, Surgeon, Derma Prene, Size 9.0/6515-00-NIB-0136

Glove, Surgeon, Encore Ultra-thick Orthopedic, Size 6.0/6515-00-NIB-0145

Glove, Surgeon, Encore Ultra-thick Orthopedic, Size 6.6/6515-00-NIB-0146

Glove, Surgeon, Encore Ultra-thick Orthopedic, Size 7.0/6515-00-NIB-0147

Glove, Surgeon, Encore Ultra-thick Orthopedic, Size 7.5/6515-00-NIB-0148

Glove, Surgeon, Encore Ultra-thick Orthopedic, Size 8.0/6515-00-NIB-0149

Glove, Surgeon, Encore Ultra-thick Orthopedic, Size 8.5/6515-00-NIB-0150

Glove, Surgeon, Encore Ultra-thick Orthopedic, Size 9.0/6515-00-NIB-0151

Glove, Surgeon, Encore MicrOptic, Size 5.5/6515-00-NIB-0152

Glove, Surgeon, Encore MicrOptic, Size 6.0/6515-00-NIB-0153

Glove, Surgeon, Encore MicrOptic, Size 6.5/6515-00-NIB-0154

Glove, Surgeon, Encore MicrOptic, Size 7.0/6515-00-NIB-0155

Glove, Surgeon, Encore MicrOptic, Size 7.5/6515-00-NIB-0156

Glove, Surgeon, Encore MicrOptic, Size 8.0/6515-00-NIB-0157

Glove, Surgeon, Encore MicrOptic, Size 8.5/6515-00-NIB-0158

Glove, Surgeon, Encore MicrOptic, Size 9.0/6515-00-NIB-0159

Glove, Surgeon, Encore Acclaim, Size 5.5/6515-00-NIB-0160

Glove, Surgeon, Encore Acclaim, Size 6.0/6515-00-NIB-0161

Glove, Surgeon, Encore Acclaim, Size 6.5/6515-00-NIB-0162

Glove, Surgeon, Encore Acclaim, Size 7.0/6515-00-NIB-0163

Glove, Surgeon, Encore Acclaim, Size 7.5/6515-00-NIB-0164

Glove, Surgeon, Encore Acclaim, Size 8.0/6515-00-NIB-0165

Glove, Surgeon, Encore Acclaim, Size 8.5/6515-00-NIB-0166

Glove, Surgeon, Encore Acclaim, Size 9.0/6515-00-NIB-0167

Glove, Surgeon, Biogel, Size 5.5/6515-00-NIB-0168

Glove, Surgeon, Biogel, Size 6.0/6515-00-NIB-0169

Glove, Surgeon, Biogel, Size 6.5/6515-00-NIB-0170

Glove, Surgeon, Biogel, Size 7.0/6515-00-NIB-0171

Glove, Surgeon, Biogel, Size 7.5/6515-00-NIB-0172

Glove, Surgeon, Biogel, Size 8.0/6515-00-NIB-0173

Glove, Surgeon, Biogel, Size 8.5/6515-00-NIB-0174

Glove, Surgeon, Biogel, Size 9.0/6515-00-NIB-0175

Glove, Surgeon, Biogel M, Size 5.5/6515-00-NIB-0176

Glove, Surgeon, Biogel M, Size 6.0/6515-00-NIB-0177

Glove, Surgeon, Biogel M, Size 6.5/6515-00-NIB-0178

Glove, Surgeon, Biogel M, Size 7.0/6515-00-NIB-0179

Glove, Surgeon, Biogel M, Size 7.5/6515-00-NIB-0180

Glove, Surgeon, Biogel M, Size 8.0/6515-00-NIB-0181

Glove, Surgeon, Biogel M, Size 8.5/6515-00-NIB-0182

Glove, Surgeon, Biogel M, Size 9.0/6515-00-NIB-0183

Glove, Surgeon, Biogel Orthopedic, Size 5.5/6515-00-NIB-0192

Glove, Surgeon, Biogel Orthopedic, Size 6.0/6515-00-NIB-0193

Glove, Surgeon, Biogel Orthopedic, Size 6.5/6515-00-NIB-0194

Glove, Surgeon, Biogel Orthopedic, Size 7.0/6515-00-NIB-0195

Glove, Surgeon, Biogel Orthopedic, Size 7.5/6515-00-NIB-0196

Glove, Surgeon, Biogel Orthopedic, Size 8.0/6515-00-NIB-0197

Glove, Surgeon, Biogel Orthopedic, Size 8.5/6515-00-NIB-0198

Glove, Surgeon, Biogel Orthopedic, Size 9.0/6515-00-NIB-0199

Glove, Surgeon, Biogel Indicator, Size 5.5/6515-00-NIB-0200

Glove, Surgeon, Biogel Indicator, Size 6.0/6515-00-NIB-0201

Glove, Surgeon, Biogel Indicator, Size 6.5/6515-00-NIB-0202

Glove, Surgeon, Biogel Indicator, Size 7.0/6515-00-NIB-0203

Glove, Surgeon, Biogel Indicator, Size 7.5/6515-00-NIB-0204

Glove, Surgeon, Biogel Indicator, Size 8.0/6515-00-NIB-0205

Glove, Surgeon, Biogel Indicator, Size 8.5/6515-00-NIB-0206

Glove, Surgeon, Biogel Indicator, Size 9.0/6515-00-NIB-0207

Glove, Surgeon, Biogel Neotech, Size 5.5/6515-00-NIB-0208

Glove, Surgeon, Biogel Neotech, Size 6.0/6515-00-NIB-0209

Glove, Surgeon, Biogel Neotech, Size 6.5/6515-00-NIB-0210

Glove, Surgeon, Biogel Neotech, Size 7.0/6515-00-NIB-0211

Glove, Surgeon, Biogel Neotech, Size 7.5/6515-00-NIB-0212

Glove, Surgeon, Biogel Neotech, Size 8.0/6515-00-NIB-0213

Glove, Surgeon, Biogel Neotech, Size 8.5/6515-00-NIB-0214

Glove, Surgeon, Biogel Neotech, Size 9.0/6515-00-NIB-0215

NPA: Bosma Industries for the Blind, Inc., Indianapolis, IN.

Contract Activity: Veterans Affairs National Acquisition Center, Hines, IL.

Services

Service Type/Location: Custodial Service, Camp Bullis, Buildings 5000, 6110, and 6201, San Antonio, Texas.

NPA: Professional Contract Services, Inc., Austin, Texas.

Contract Activity: MEDCOM Health Care Acquisition Activity, Fort Sam Houston, Texas.

Service Type/Location: Janitorial/Custodial, U.S. Army Reserve Center, Fraser, Michigan.

NPA: Jewish Vocational Service and Community Workshop, Inc., Southfield, Michigan.

Contract Activity: HQ, 88th Regional Support Command, Fort Snelling, Minnesota.

This action does not affect current contracts awarded prior to the effective date of this addition or options that may be exercised under those contracts.

Sheryl D. Kennerly,
Director, Information Management.

[FR Doc. 02-32764 Filed 12-26-02; 8:45 am]

BILLING CODE 6353-01-P